DEPARTMENT OF LABOR

Occupational Safety and Health Administration

29 CFR Part 1910, 1915 and 1926

[Docket No. OSHA-H022K-2006-0062 (formerly Docket No. H022K)]

RIN 1218-AC20

Hazard Communication; Correction

AGENCY: Occupational Safety and Health Administration (OSHA), DOL.

ACTION: Proposed rule: correction.

SUMMARY: This document corrects the OSHA Hazard Communication standard proposed rule and request for comment, published in the Federal Register of September 30, 2009. This notice corrects eight errors, four in the preamble and four that appear in Appendix A: Table A.1.1, Table A.1.2, Table A.2.3, and Table A7.1.

FOR FURTHER INFORMATION CONTACT: For general information and press inquiries, contact Jennifer Ashley, Office of Communications, Room N-3647, OSHA, U.S. Department of Labor, 200 Constitution Avenue, NW., Washington, DC 20210; telephone (202) 693-1999. For technical information, contact Maureen Ruskin, Directorate of Standards and Guidance, Room N-3718, OSHA, U.S. Department of Labor, 200 Constitution Avenue, NW., Washington, DC 20210; telephone (202) 693-1950.

Correction

1. In the preamble of OSHA's Hazard Communication standard, published in the Federal Register of September 30, 2009, (74 FR 50279) on page 50280, in the first column, correct the FOR FURTHER INFORMATION CONTACT section to read as follows:

FOR FURTHER INFORMATION CONTACT: For general information and press inquiries, contact Jennifer Ashley, Office of Communications, Room N-3647, OSHA, U.S. Department of Labor, 200 Constitution Avenue, NW., Washington, DC 20210; telephone (202) 693-1999. For technical information, contact Maureen Ruskin, Directorate of Standards and Guidance, Room N-3718, OSHA, U.S. Department of Labor, 200 Constitution Avenue, NW., Washington, DC 20210; telephone (202) 693-1950.

2. On page 50335, in column one, in the fifth full paragraph from the top of the page, in the third line from the bottom of that paragraph, the dollar amount of “$500 million” is corrected to read “$700 million”.

3. On page 50372, in column two, in the second full paragraph under Item 4, in the fifth line from the bottom of that paragraph, the quantity “4,215,404” is corrected to read “3,877,457”.

4. On page 50378, in column one, in the last line of text in that column above footnote 17, the dollar amount of “$610 million” is corrected to read “$621 million”.

5. In Appendix A to § 1910.1200 on page 50445, correct Table A.1.1: Acute toxicity hazard categories and acute toxicity estimate (ATE) values defining the respective categories, to read as follows:

Exposure route | Category 1 | Category 2 | Category 3 | Category 4
Oral (mg/kg bodyweight) See: Notes (a), (b) | ≤ 5 | > 5 and ≤ 50 | > 50 and ≤ 300 | > 300 and ≤ 2000.
Dermal (mg/kg bodyweight) See: Notes (a), (b) | ≤ 50 | > 50 and ≤ 200 | > 200 and ≤ 1000 | > 1000 and ≤ 2000.
Inhalation—Gases (ppmV) See: Note (a), Note (b), Note (c) | ≤ 100 | > 100 and ≤ 500 | > 500 and ≤ 2500 | > 2500 and ≤ 20000.
Inhalation—Vapors (mg/l) See: Note (a), Note (b), Note (c), Note (d) | ≤ 0.5 | > 0.5 and ≤ 2.0 | > 2.0 and ≤ 10.0 | > 10.0 and ≤ 20.0.
Inhalation—Dusts and Mists (mg/l) See: Note (a), Note (b), Note (c) | ≤ 0.05 | > 0.05 and ≤ 0.5 | > 0.5 and ≤ 1.0 | > 1.0 and ≤ 5.0.
Note: Gases concentration are expressed in parts per million per volume (ppmV).
Notes to Table A.1.1:
(a) The acute toxicity estimate (ATE) for the classification of a substance is derived using the LD50/LC50 where available ;
(b) The acute toxicity estimate (ATE) for the classification of a substance or ingredient in a mixture is derived using:
(i) the LD50/LC50 where available. Otherwise,
(ii) the appropriate conversion value from Table 1.2 that relates to the results of a range test, or
(iii) the appropriate conversion value from Table 1.2 that relates to a classification category;
(c) Inhalation cut-off values in the table are based on 4 hour testing exposures. Conversion of existing inhalation toxicity data which has been generated according to 1 hour exposure is achieved by dividing by a factor of 2 for gases and vapors and 4 for dusts and mists;
(d) For some chemicals the test atmosphere may consist of a vapor which is near the gaseous phase. In these cases, classification is based on ppmV as follows: Category 1 (100 ppmV), Category 2 (500 ppmV), Category 3 (2500 ppmV), Category 4 (20000 ppmV).
The terms “dust,” “mist,” and “vapor” are defined as follows:
(i) Dust: solid particles of a substance or mixture suspended in a gas (usually air);
(ii) Mist: liquid droplets of a substance or mixture suspended in a gas (usually air);
(iii) Vapor: the gaseous form of a substance or mixture released from its liquid or solid state.

6. In Appendix A on page 50447, correct Table A.1.2: Conversion from experimentally obtained acute toxicity range values (or acute toxicity hazard categories) to acute toxicity point estimates for use in the formulas for the classification of mixtures, to read as follows:

Exposure routes | Classification category or experimentally obtained acute toxicity range estimate | Converted acute toxicity point estimate
Oral (mg/kg bodyweight ) | 0 < Category 1 ≤ 5 | 0.5
| 5 < Category 2 ≤ 50 | 5
| 50 < Category 3 ≤ 300 | 100
| 300 < Category 4 ≤ 2000 | 500
Dermal (mg/kg bodyweight) | 0 < Category 1 ≤ 50 | 5
| 50 < Category 2 ≤ 200 | 50
| 200 < Category 3 ≤ 1000 | 300
| 1000 < Category 4 ≤ 2000 | 1100
Gases (ppmV) | 0 < Category 1 ≤ 100 | 10
| 100 < Category 2 ≤ 500 | 100
| 500 < Category 3 ≤ 2500 | 700
| 2500 < Category 4 ≤ 20000 | 4500
Vapors (mg/l) | 0 < Category 1 ≤ 0.5 | 0.05
| 0.5 < Category 2 ≤ 2.0 | 0.5
| 2.0 < Category 3 ≤ 10.0 | 3
| 10.0 < Category 4 ≤ 20.0 | 11
Dust/mist (mg/l) | 0 < Category 1 ≤ 0.5 | 0.005
| 0.05 < Category 2 ≤ 2.0 | 0.05
| 0.5 < Category 3 ≤ 10.0 | 0.5
| 1.0 < Category 4 ≤ 20.0 | 1.5
Note: Gases concentration are expressed in parts per million per volume (ppmV).

7. In Appendix A on page 50450, correct Table A.2.3: Concentration of ingredients of a mixture classified as skin Category 1 or 2 that would trigger classification of the mixture as hazardous to skin (Category 1 or 2), to read as follows:

Sum of ingredients classified as: | Concentration triggering classification of a mixture as:: Skin corrosive Category 1 | Concentration triggering classification of a mixture as:: Skin irritant Category 2
Skin Category 1 | ≥ 5% | ≥ 1% but < 5%.
Skin Category 2 |  | ≥10%.
(10 × Skin Category 1) + Skin Category 2 |  | ≥10%.

8. In Appendix A, on page 50467, correct Table A.7.1: Cut-off values/concentration limits of ingredients of a mixture classified as reproductive toxicants or for effects on or via lactation that trigger classification of the mixture, to read as follows:

Ingredients classified as: | Cut-off values/concentration limits triggering classification of a mixture as:: Category 1 reproductive toxicant | Cut-off values/concentration limits triggering classification of a mixture as:: Category 2 reproductive toxicant | Cut-off values/concentration limits triggering classification of a mixture as:: Additional category for effects on or via lactation
Category 1 reproductive toxicant | ≥ 0.1% |  |
Category 2 reproductive toxicant |  | ≥ 0.1% |
Additional category for effects on or via lactation |  |  | ≥ 0.1%

Authority

This document was prepared under the direction of Jordan Barab, Acting Assistant Secretary of Labor for Occupational Safety and Health, 200 Constitution Avenue, NW., Washington, DC 20210.

Signed at Washington, DC, this 29th day of October 2009.
Jordan Barab,
Acting Assistant Secretary of Labor for Occupational Safety and Health.

[FR Doc. E9-26579 Filed 11-4-09; 8:45 am]

BILLING CODE 4510-26-P